DEPARTMENT OF COMMERCE

Foreign-Trade Zones Board

[Docket 29-2002]

Foreign-Trade Zone 20—Newport News, Application for Subzone, Canon Virginia, Inc. (Computer Printers and Related Products), Newport News, VA

An application has been submitted to the Foreign-Trade Zones Board (the Board) by the Virginia Port Authority, grantee of FTZ 20, requesting special-purpose subzone status for the computer printer and related products manufacturing plant of Canon Virginia, Inc. (Canon) in Newport News, Virginia. The application was submitted pursuant to the provisions of the Foreign-Trade Zones Act, as amended (19 U.S.C. 81a-81u), and the regulations of the Board (15 CFR part 400). It was formally filed on July 2, 2002.

Canon's Newport News plant is comprised of two sites in Newport News, Virginia: Site 1 (165.60 acres currently, with 782,793 square feet with a possible expansion of 800,000 square feet) is located at 12000 Canon Blvd., Newport News; and Site 2 (21.07 acres with 125,000 square feet) located at 120 Enterprise Drive, Newport News, Virginia.

The facility (1,400 employees) produces computer printers (HTSUS 8471, duty-free), and related products such as toner cartridges (HTSUS 8473, duty-free), toner drums (HTSUS 9009, duty-free), and toner (HTSUS 9009, duty-free and 3707, 6.5%). The company also remanufactures and refurbishes photocopying machines (HTSUS 9009, duty-free-3.7%) and bubble jet printers (HTSUS 8471, duty-free) and may include other Canon products such as scanners, facsimile machines, calculators, medical equipment, regular and digital cameras, video camcorders and broadcasting equipment in the future.

Foreign-sourced materials will account for some 50-70 percent of finished product value, and include items from the following general categories: mineral oils, inorganic acids, iron oxides, titanium oxides, sulfates, salts of oxometallic acid, ethers, amine function compounds, diazo compounds, organic derivatives of hydrazine, other organic compounds, synthetic organic coloring matter, paints, artificial waxes, prepared glues and adhesives, toners, prepared rubber accelerators, organic composite solvents, prepared binders, polymers of propylene/styrene/vinyl chloride/vinyl acetate, acrylic polymers, polyacetals, polyamides, amino-resins, silicones, self-adhesive plates of plastics, plastic lids, other articles of plastics, articles of unvulcanized and vulcanized rubber, belts, packing cases, uncoated paper, cartons, paper, printed booklets and leaflets, synthetic monofilaments, cleaning seals, glass spheres, stainless steel wire, fasteners, copper springs, articles of copper, tungsten, base fittings, metal office fasteners, fans, filtering apparatus, automatic data processing machines, molding boxes, valves, ball or roller bearings, shafts, gears, pulleys, electric motors, electrical transformers, electromagnets, batteries, electrical resistors, electrical apparatus for switching, electrical lamps, diodes, transistors, electronic integrated circuits, insulated wire and cable, insulated fittings, lenses, photocopying apparatus, counters, typewriter ribbons, ink pads, and testing and controlling instruments.

Zone procedures would exempt Canon from Customs duty payments on foreign materials used in production for export. Some 15 percent of the plant's shipments are exported. On domestic sales, the company would be able to choose the duty rates that apply to the finished products (primarily duty-free and some at 3.7%) rather than the duty rates that would otherwise apply to the foreign-sourced materials noted above (duty-free to 9 percent, weighted average 5.6%). The application indicates that the savings from zone procedures will help improve the plant's international competitiveness.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW, Washington, DC 20005; or

2. Submissions Via the U.S. Postal Service: Foreign-Trade-Zones Board, U.S. Department of Commerce, FCB—Suite 4100W, 1401 Constitution Ave. NW, Washington, DC 20230.

The closing period for their receipt is [60 days from date of publication]. Rebuttal comments in response to material submitted during the foregoing period may be submitted during the subsequent 15-day period (to September 30, 2002.).

A copy of the application and accompanying exhibits will be available for public inspection at the Office of the Foreign-Trade Zones Board's Executive Secretary at address Number 1 listed above, and at the U.S. Department of Commerce Export Assistance Center, 400 North 8th Street, Suite 540, Richmond, VA 23240-0026.

Dated: July 9, 2002.
Andrew McGilvray,
Acting Executive Secretary.

[FR Doc. 02-17853 Filed 7-15-02; 8:45 am]

BILLING CODE 3510-DS-P